DEPARTMENT OF JUSTICE

Antitrust Division

Notice Pursuant to the National Cooperative Research and Production Act of 1993—Rust Foundation

Notice is hereby given that, on April 14, 2022, pursuant to Section 6(a) of the National Cooperative Research and Production Act of 1993, 15 U.S.C. 4301 et seq. (“the Act”), Rust Foundation has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: AgileBits, Inc., 4711 Yonge Street, 10th Floor, Toronto, ON Canada M2N 6K8, Amazon Web Services, Inc., 410 Terry Ave North, Seattle, WA 98109, Arm Ltd, 110 Fulbourn Road, Cambridge, CB1 9NJ, UK, Automata Labs Ltd, Craigmuir Chambers, Road Town, Tortola, VG 1110, British Virgin Islands, SAS Clever Cloud, 3 Rue de l'Allier, 44000 Nantes, France, Dropbox Inc, 1800 Owens St, San Francisco, CA 94158, Ferrous Systems GmbH, Boxhagener Strasse 79, 10245 Berlin, Germany, Futurewei Technology, Inc, 2220 Central Expressway, Santa Clara, CA 95050, Google, LLC, 1600 Amphitheater Parkway, Mountain View, CA 94043, Grafbase, 3039 Octavia Street, 94123 San Francisco, CA, Huawei Technologies Co., Ltd, Section H, Huawei Industrial Base, Bantian, Longgang District, Shenzhen, 518129, China, Klarälvdalens Datakonsult AB, Box 30, 68321 Hagfors Sweden, Knoldus Inc, 3095 Tours Road, Missisauga, ON, L5N3H9, Canada, Meta Platforms, Inc, 1 Hacker Way, Menlo Park, CA 94025, Microsoft, One Microsoft Way, Redmond, WA 98052-6399, Mozilla Corporation, 2 Harrison St #175, San Francisco, CA 94105, Open Source Security, Inc., 205 Granite Run Drive, Suite 235, Lancaster, PA 17601, ParaState Foundation, 73 Upper Paya Lebar Road #06-01C, Centro Bianco, Singapore, Functional Software Inc, 45 Fremont Street, Floor 8, San Francisco, CA 94105, simplabs GmbH, Hans-Sachs-Strasse 12, 80469 München, Germany, SixtyFPS GmbH, Am Panke-Park 47, 16321 Bernau bei Berlin, Germany, Spectral Cyber Technologies Ltd, 7 Mikve Israel, POB 342, Tel Aviv 6511506, Israel, Tabnine, 94 Yigal Alon Alon Tower #2 6th Floor, Tel Aviv-Yafo, 6789139, Israel, Tag1 Consulting, Inc, 637 E Atlantic Blvd. #21865, Pompano Beach, FL 33062, Tangram Vision, 1350 Old Bay Shore Hwy, Suite 520, Burlingame, CA 94010, Threema GmbH, Churerstrasse 82, 8808 Pfäffikon, Switzerland, Toyota Connected North America, Inc., 5905 Legacy Drive, Suite 201, Plano TX 75024, Tweede golf B.V., Castellastraat 26, 6512 EX Nijmegen, The Netherlands, Watchful, Inc., 600 California Street, Fl 11, San Francisco, CA 94108, Wyliodrin SRL, Str. Transilvania nr. 19 ap. 6, Targu Mures, 540551, Romania, Zama, 17 rue de Choiseul, Paris 75002, France. The general area of Rust Foundation's planned activity is (a) support the maintenance and development of the Rust programming language and related projects (the “Projects”); (b) cultivate the Rust project team members and user communities, including by producing events; (c) manage the technical infrastructure underlying the development of the Projects; (d) manage and steward the Rust trademark and other assets of the Foundation; and (e) undertake such other activities as may from time to time be appropriate to further the purposes and achieve the goals set forth above.

Suzanne Morris,
Chief, Premerger and Division Statistics, Antitrust Division.

[FR Doc. 2022-10269 Filed 5-12-22; 8:45 am]

BILLING CODE P